DEPARTMENT OF AGRICULTURE

National Institute of Food and Agriculture

7 CFR Part 3434

RIN 0524-AA39

Hispanic-Serving Agricultural Colleges and Universities (HSACU)

AGENCY: National Institute of Food and Agriculture (NIFA), USDA.

ACTION: Final rule.

SUMMARY: This rule updates the list of institutions that are granted HSACU certification by the Secretary and are eligible for HSACU programs for the period starting October 1, 2015, and ending September 30, 2016.

DATES: This rule is effective February 3, 2016 and applicable October 1, 2015.

FOR FURTHER INFORMATION CONTACT: Lisa DePaolo; Policy Analyst; National Institute of Food and Agriculture; U.S. Department of Agriculture; STOP 2272; 1400 Independence Avenue SW.; Washington, DC 20250-2272; Voice: 202-401-5061; Fax: 202-401-7752; Email: ldepaolo@nifa.usda.gov.

SUPPLEMENTARY INFORMATION:

HSACU Institutions for Fiscal Year 2016

This rule makes changes to the existing list of institutions in Appendix B of 7 CFR part 3434. The list of institutions is amended to reflect the institutions that are granted HSACU certification by the Secretary and are eligible for HSACU programs for the period starting October 1, 2015, and ending September 30, 2016.

Certification Process

As stated in 7 CFR 3434.4, an institution must meet the following criteria to receive HSACU certification: (1) Be a Hispanic-Serving Institution (HSI), (2) offer agriculture-related degrees, (3) not appear on the Excluded Parties List System (EPLS), (4) be accredited, and (5) award at least 15% of agriculture-related degrees to Hispanic students over the two most recent academic years.

NIFA obtained the latest report from the U.S. Department of Education's National Center for Education Statistics that lists all HSIs and the degrees conferred by these institutions (completion data) during the 2013-14 academic year. NIFA used this report to identify HSIs that conferred a degree in an instructional program that appears in Appendix A of 7 CFR part 3434 and to confirm that over the 2012-13 and 2013-14 academic years at least 15% of the degrees in agriculture-related fields were awarded to Hispanic students. NIFA further confirmed that these institutions were nationally accredited and were not listed in the System for Award Management (https://www.sam.gov) with exclusions.

The updated list of HSACUs is based on (1) completions data from 2012-13 and 2013-14, and (2) enrollment data from Fall 2014. NIFA identified 101 institutions that met the eligibility criteria to receive HSACU certification for FY 2016 (October 1, 2015 to September 30, 2016).

Declaration of Intent To Apply for NLGCA Designation

As set forth in Section 7101 of the Agricultural Act of 2014 (Pub. L. 113-79), which amends 7 U.S.C. 3103, an institution that is eligible to be designated as an HSACU may notify the Secretary of its intent not to be considered an HSACU. To opt out of designation as an HSACU, an authorized official at the institution must submit a declaration of intent not to be considered an HSACU to NIFA by email at NLGCA.status@nifa.usda.gov. In accordance with Section 7101, a declaration by an institution not to be considered an HSACU shall remain in effect until September 30, 2018. Institutions that opt out of HSACU designation will have the option to apply for designation as a Non-Land Grant College of Agriculture (NLGCA) institution. To be eligible for NLGCA designation, institutions must be public colleges or universities offering baccalaureate or higher degrees in the study of food and agricultural sciences, as defined in 7 U.S.C. 3103. An online form to request NLGCA designation is available at http://nifa.usda.gov/webform/request-non-land-grant-college-agriculture-designation.

In FY 2014 and FY 2015, six institutions opted out of their HSACU designation and received NLGCA designation, hence they are excluded from the FY 2016 HSACU list.

Appeal Process

As set forth in 7 CFR 3434.8, NIFA will permit HSIs that are not granted HSACU certification to submit an appeal within 30 days of the publication of this notice.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure; Agricultural research, education, extension; Hispanic-Serving Institutions; Federal assistance.

Title 7, part 3434, of the Code of Federal Regulations is amended accordingly as set forth below:

PART 3434—HISPANIC-SERVING AGRICULTURAL COLLEGES AND UNIVERSITIES CERTIFICATION PROCESS

1. The authority citation for Part 3434 continues to read as follows:

Authority: 7 U.S.C. 3103.

2. Revise part 3434 Appendix B to read as follows:

Appendix B to Part 3434—List of HSACU Institutions, 2015-2016

The institutions listed in this appendix are granted HSACU certification by the Secretary and are eligible for HSACU programs for the period starting October 1, 2015, and ending September 30, 2016. Institutions are listed alphabetically under the state of the school's location, with the campus indicated where applicable.

Arizona (3)

Arizona Western College

Cochise College

Phoenix College

California (39)

Allan Hancock College

Antelope Valley College

Antioch University—Los Angeles

Bakersfield College

California Baptist University

California Lutheran University

California State University—Dominquez Hills

California State University—East Bay

California State University—Long Beach

California State University—San Bernardino

College of San Mateo

College of the Desert

College of the Sequoias

El Camino Community College District

Fullerton College

Golden West College

Hartnell College

Imperial Valley College

Long Beach City College

Los Angeles City College

Los Angeles Pierce College

Mendocino College

Merced College

MiraCosta College

Modesto Junior College

Monterey Peninsula College

Mt. San Antonio College

Mt. San Jacinto Community College District

National University

Pacific Union College

Porterville College

Reedley College

Saddleback College

Saint Mary's College of California

San Diego City College

San Diego Mesa College

San Diego State University

San Francisco State University

San Jose State University

Santa Ana College

University of California-Riverside

University of La Verne

West Hills College Coalinga

Whittier College

Colorado (1)

Trinidad State Junior College

Florida (5)

Broward College

Florida International University

Miami Dade College

Nova Southeastern University

Valencia College

Nevada (2)

College of Southern Nevada

Truckee Meadows Community College

New Jersey (2)

Saint Peter's University

William Paterson University of New Jersey

New Mexico (9)

Central New Mexico Community College

Eastern New Mexico University—Main Campus

Eastern New Mexico University—Ruidoso Campus

Mesalands Community College

New Mexico Highlands University

New Mexico Institute of Mining and Technology

Northern New Mexico College

University of New Mexico—Main Campus

Western New Mexico University

New York (2)

CUNY Bronx Community College

CUNY LaGuardia Community College

Puerto Rico (15)

Bayamon Central University

Instituto Tecnologico de Puerto Rico—Manati

Inter American University of Puerto Rico—Aguadilla

Inter American University of Puerto Rico—Bayamon

Inter American University of Puerto Rico—Metro

Inter American University of Puerto Rico—Ponce

Inter American University of Puerto Rico—San German

Pontifical Catholic University of Puerto Rico—Ponce

Universidad Del Turabo

Universidad Metropolitana

University of Puerto Rico—Arecibo

University of Puerto Rico—Humacao

University of Puerto Rico—Medical Sciences Campus

University of Puerto Rico—Rio Piedras Campus

University of Puerto Rico—Utuado

Texas (22)

Houston Community College

Lee College

Palo Alto College

Richland College

San Antonio College

Saint Edward's University

St. Mary's University

Southwest Texas Junior College

Texas A&M International University

Texas A&M University—Corpus Christi

Texas A&M University—Kingsville

Texas State Technical College—Harlingen

Texas State University

University of Houston

University of Houston—Clear Lake

University of St. Thomas

University of Texas at Arlington

University of Texas at Brownsville

University of Texas at El Paso

University of Texas at San Antonio

University of Texas Rio Grande Valley

University of the Incarnate Word

Washington (3)

Columbia Basin College

Wenatchee Valley College

Yakima Valley Community College

Done in Washington, DC, this 21st day of January, 2016.
Sonny Ramaswamy,
Director, National Institute of Food and Agriculture.

[FR Doc. 2016-01893 Filed 2-2-16; 8:45 am]

BILLING CODE 3410-22-P